FEDERAL COMMUNICATIONS COMMISSION

[DA 14-1336]

Consumer Advisory Committee

AGENCY: Federal Communications Commission.

ACTION: Notice.

SUMMARY: The Commission announces the next meeting date, time, and agenda of its Consumer Advisory Committee (hereinafter the “Committee”). The purpose of the Committee is to make recommendations to the Commission regarding matters within the jurisdiction of the Commission and to facilitate the participation of all consumers in proceedings before the Commission.

DATES: October 20, 2014, 9:00 a.m. to 4:00 p.m.

ADDRESSES: Federal Communications Commission, 445 12th Street SW., Commission Meeting Room, TW-C305, Washington, DC 20554.

FOR FURTHER INFORMATION CONTACT: Scott Marshall, Consumer and Governmental Affairs Bureau, (202) 418-2809 (voice or Relay), or email Scott.Marshall@fcc.gov.

SUPPLEMENTARY INFORMATION: This is a summary of the Commission's document DA 14-1336, released September 17, 2014, announcing the agenda, date, and time of the Committee's next meeting.

Meeting Agenda

At its October 20, 2014 meeting, the Committee is expected to consider a recommendation from its Disability Working Group regarding accessibility of the Lifeline program, and a recommendation from its Consumer Protection Working Group regarding mobile device security and privacy. The Committee may also consider other recommendations from its working groups, and may receive briefings from FCC staff and outside speakers on matters of interest to the Committee. A limited amount of time will be available on the agenda for comments from the public. The public may ask questions of presenters via the email address livequestions@fcc.gov or via Twitter using the hashtag #fcclive. In addition, the public may also follow the meeting on Twitter@fcc or via the Commission's Facebook page at www.facebook.com/fcc. Alternatively, members of the public may send written comments to Scott Marshall, Designated Federal Officer of the Committee at the address provided above. The meeting is open to the public, and the site is fully accessible to people using wheelchairs or other mobility aids. Sign language interpreters, open captioning, assistive listening devices, and Braille copies of the agenda and handouts will be provided on site. Meetings are also broadcast live with open captioning over the Internet from the FCC Live Web page at www.fcc.gov/live/.

Other reasonable accommodations for people with disabilities are available upon request. The request should include a detailed description of the accommodation needed and contact information. Please provide as much advance notice as possible; last minute requests will be accepted, but may not be possible to fill. To request an accommodation, send an email to fcc504@fcc.gov or call the Consumer and Governmental Affairs Bureau at 202-418-0530 (voice), 202-418-0432 (TTY).

Federal Communications Commission.
Kris Anne Monteith,
Acting Chief, Consumer and Governmental Affairs Bureau.

[FR Doc. 2014-22771 Filed 9-23-14; 8:45 am]

BILLING CODE 6712-01-P